ENVIRONMENTAL PROTECTION AGENCY

[EPA-HQ-OLEM-2018-0646, FRL-9993-00-OMS]

Agency Information Collection Activities; Submission to OMB for Review and Approval; Comment Request; Safe Management of Recalled Airbags Rule (Renewal)

AGENCY: Environmental Protection Agency (EPA).

ACTION: Notice.

SUMMARY: The Environmental Protection Agency (EPA) has submitted an information collection request (ICR), Safe Management of Recalled Airbags Rule (EPA ICR Number 2589.03, OMB Control Number 2050-0221) to the Office of Management and Budget (OMB) for review and approval in accordance with the Paperwork Reduction Act. This is a proposed extension of the ICR, which is currently approved through April 30, 2019. Public comments were previously requested via the Federal Register on November 30, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before June 28, 2019.

ADDRESSES: Submit your comments, referencing Docket ID No. EPA-HQ-OLEM-2018-0646, to (1) EPA, either online using www.regulations.gov (our preferred method), or by email to rcra-docket@epa.gov, or by mail to: RCRA Docket (2822T), U.S. Environmental Protection Agency, 1200 Pennsylvania Avenue NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Joseph Krahe, Office of Resource Conservation and Recovery (mail code 5301P), Environmental Protection Agency, 1200 Pennsylvania Ave. NW, Washington, DC 20460; telephone number: 703-308-8615; fax number: 703-308-0513; email address: krahe.joseph@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The EPA issued the interim final rule in response to the urgent public health issue posed by recalled Takata airbag inflators still installed in vehicles. The rule facilitates a more expedited removal of defective Takata airbag inflators from vehicles by dealerships, salvage yards and other locations for safe and environmentally sound disposal by exempting the collection of airbag waste from hazardous waste requirements so long as certain conditions are met. The collection of information is necessary in order to ensure that the hazardous waste airbag modules and airbag inflators exempted under this rule are safely disposed of and that defective airbag modules and airbag inflators are not reinserted into vehicles where they would pose an unreasonable risk of death or serious injury. Information collection activities include maintaining at the airbag handler for no less than three years records of (1) all off-site shipments and (2) confirmations of receipt of airbag waste.

Form Numbers: None.

Respondents/affected entities: Business or other for-profit.

Respondent's obligation to respond: Required to obtain or retain a benefit (sections 2002, 3001, 3002, 3003, 3004, 3006, 3010, and 3017 of the Solid Waste Disposal Act).

Estimated number of respondents: 15,256.

Frequency of response: On occasion.

Total estimated burden: 4,270 hours per year. Burden is defined at 5 CFR 1320.03(b).

Total estimated cost: $130,791 (per year), includes $0 annualized capital or operation & maintenance costs.

Changes in the Estimates: There is a slight increase of 70 hours in the total estimated respondent burden compared with the ICR currently approved by OMB. This increase is due to more accurate estimates of the hourly burden.

Courtney Kerwin,
Director, Regulatory Support Division.

[FR Doc. 2019-08601 Filed 4-26-19; 8:45 am]

BILLING CODE 6560-50-P